ENVIRONMENTAL PROTECTION AGENCY

[ER-FRL-6618-6]

Environmental Impact Statements and Regulations; Availability of EPA Comments

Availability of EPA comments prepared pursuant to the Environmental Review

Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-G36152-NM Rating LO, Santa Fe National Forest, Santa Fe Municipal Watershed Project, Servere Crown Fire Reduction and Sustainable Forest and Watershed Conditions Restoration, Implementation, Pecos Wilderness to Cochitti Lake, Santa Fe National Forest, Santa Fe County, NM.

Summary

EPA has no objections to the selection of the preferred alternative.

ERP No. D-BIA-K60031-NV Rating EC2, Moapa Paiute Energy Center/Associated Facilities Construction, Operation and Maintenance of a 760-Megawatt (MW) Baseload Natural Gas-Fired Combined Cycle Power Plant, Land Lease and Water Use Approval, R-O-W Grants, Temporary Use, COE Section 10/404 and EPA NPDES Permits, Moapa River Indian Reservation and BLM Lands, Clark County, NY.

Summary

EPA expressed concerns, and requested additional information regarding: lack of evaluation for ressonable alternatives, impacts to groundwater resources, air quality impacts, and endangered species act compliance.

ERP No. D-BOP-G81010-LA Rating LO, Pollock Federal Correctional Institution, Construction and Operation, near Town of Pollock, Grant Parish, LA.

Summary

EPA expressed no objection to the project proposal.

ERP No. D-BOP-K80043-AZ Rating EC2, Southern Arizona Federal Correctional Facility, Construction and Operation, Pima and Yuma Counties, AZ.

Summary

EPA expressed concerns regarding the lack of detail relating to specific site location information and potential impacts of the prison industry component of the project. EPA requested additional information on those areas, and also requested additional analysis of the “no action' alternative.

ERP No. D-IBR-J39029-SD Rating EC2, Angostura Unit—(Dam, Reservoir and Irrigation Facilities) Renewal of a Long-Term Water Service Contract, Cheyenne River Basin, Pine Ridge Reservation, Bismarck County, SD.

Summary

EPA expressed environmental concerns over the level of analysis of direct and indirect impacts, and the lack of information regarding the cumulative effects of the Angostura project and the means to mitigate the significant impacts of each alternative.

Final EISs

ERP No. F-AFS-K61145-CA Programmatic EIS—Ansel Adams, John Muir and Dinkey Lakes Wildernesses, Proposed New Management Direction, Amending the Land and Resource Management Plans for the Inyo and Sierra National Forests, Implementation, Inyo, Madera, Mono and Fresno Counties, CA.

Summary

No formal comment letter was sent to the preparing agency.

ERP No. F-IBR-L28008-ID Arrowrock Dam Outlet Works Rehabilitation, Construction and Operation, To Remove 10 Lower Level Ensign Valves and Replace with 10 Clamshell Gates, Boise River, City of Boise, ID.

Summary

EPA is pleased that the final EIS includes a modification from the draft EIS which reduces the likelihood of significant impacts to water quality and fish. However, EPA continues to have objections because the final EIS does not clearly state how much the modification would reduce the potential for turbidity and lacks a quantitative estimate of suspended solids, new information about monitoring and mitigation, and a greater description of environmental impacts and alternatives analyses.

ERP No. F-JUS-K81010-AZ Pinal County Private Detention Facility, To Develop and Operate a Pre-Trail Detention Facility, Pinal County, CA.

Summary

No formal comment letter was sent to the preparing agency.

Regulations

ERP No. R-BLM-A99217-00 43 CFR Subpart 3809—Surface Management Regulations for Locatable Mineral Operations; Proposed Suspension.

Summary

EPA expressed concern that the bonding and financial assurance requirements be adequate to ensure that states and the federal government are not required to pay reclamation and clean up costs for abandoned mine sites. EPA recommends that the financial assurance requirements in the current regulation not be suspended but be contined.

Dated: May 29, 2001.
Ken Mittelholtz,
Environmental Protection Specialist, Office of Federal Activities.

[FR Doc. 01-13829 Filed 5-31-01; 8:45 am]

BILLING CODE 6560-50-P